DEPARTMENT OF THE TREASURY

Submission for OMB Review; Comment Request

February 20, 2008.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before March 28, 2008 to be assured of consideration.

Internal Revenue Service (IRS)

OMB Number: 1545-XXXX.

Type of Review: New Collection.

Title: Rev. Proc. 2007-99 (RP-127367-07), 9100 Relief Under Sections 897 and 1445.

Description: The IRS needs certain information to determine whether a taxpayer should be granted permission to make late filings of certain statements or notices under sections 897 and 1445. The information submitted will include a statement by the taxpayer demonstrating reasonable cause for the failure to timely make relevant filings under sections 897 and 1445.

Respondents: Businesses or other for-profit institutions.

Estimated Total Burden Hours: 4 hours.

OMB Number: 1545-XXXX.

Type of Review: New Collection.

Title: Primary Contact Information Change Form.

Form: EFTPS Form.

Description: Currently taxpayers can only obtain the Primary Contact Information Form by calling EFTPS Customer Service. The taxpayer calls EFTPS Customer Service requesting to change the contact information on their enrollment. As an alternative to faxing, we are offering the taxpayer the option of downloading the form.

Respondents: Individuals or households.

Estimated Total Burden Hours: 200 hours.

Clearance Officer: Glenn P. Kirkland, (202) 622-3428, Internal Revenue Service, Room 6516, 1111 Constitution Avenue, NW., Washington, DC 20224.

OMB Reviewer: Alexander T. Hunt, (202) 395-7316. Office of Management and Budget, Room 10235, New Executive Office Building, Washington, DC 20503.

Robert Dahl,
Treasury PRA Clearance Officer.

[FR Doc. E8-3655 Filed 2-26-08; 8:45 am]

BILLING CODE 4830-01-P